DEPARTMENT OF TRANSPORTATION

Pipeline and Hazardous Materials Safety Administration

[Docket No. PHMSA-2023-0114]

Pipeline Safety: Request for Special Permit for EcoEléctrica, L.P.

AGENCY: Pipeline and Hazardous Materials Safety Administration (PHMSA); U.S. Department of Transportation (DOT).

ACTION: Notice.

SUMMARY: PHMSA is publishing this notice to solicit public comments on a special permit application filed by EcoEléctrica, L.P. (EcoEléctrica). The application asks PHMSA to waive certain requirements in Federal pipeline safety regulations that apply to liquefied natural gas (LNG) facilities. PHMSA will review the comments received in deciding whether to grant or deny the application.

DATES: Submit any comments regarding this special permit request by October 3, 2025.

ADDRESSES: Comments should reference the docket number for this special permit request and may be submitted in the following ways:

• E-Gov Website: This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: Identify the docket number for the special permit request you are commenting on at the beginning of your comments. If you submit comments by mail, please submit two copies. To receive confirmation that PHMSA has received your comments, please include a self-addressed stamped postcard. Internet users may submit comments at http://www.regulations.gov.

Note: A privacy statement is published on http://www.regulations.gov. Comments, including any personal information provided, are posted without changes or edits to http://www.regulations.gov.

Confidential Business Information

Confidential Business Information (CBI) is commercial or financial information that is both customarily and treated as private by its owner. Under the Freedom of Information Act (FOIA) (5 U.S. Code § 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the Agency by taking the following steps: (1) mark each page of the original document submission containing CBI as “Confidential;” (2) send PHMSA a second copy of the original document with the CBI deleted along with the original document; and (3) explain why the information you are submitting is CBI. Unless you are notified otherwise, PHMSA will treat such marked submissions as confidential under the FOIA, and they will not be placed in the public docket of this notice. Submissions containing CBI should be sent to Lee Cooper, DOT, PHMSA-PHP-80, 1200 New Jersey Avenue SE, Washington, DC 20590-0001. Any commentary PHMSA receives that is not designated specifically as CBI will be placed in the public docket for this matter.

FOR FURTHER INFORMATION CONTACT:

• General: Mr. Lee Cooper by phone at 202-913-3171 or by email at lee.cooper@dot.gov.

• Technical: Ms. Katherine Roth by email at katherine.roth@dot.gov.

SUPPLEMENTARY INFORMATION: On September 8, 2023, EcoEléctrica applied for a special permit asking PHMSA to waive the requirements in 49 CFR 193.2167 and 193.2173, which prohibit the use of covered impoundment systems and require the removal of water from impoundment areas at LNG facilities, respectively.¹ If granted, the waiver would allow EcoEléctrica to use pipe-in-pipe (PIP) technology as part of the impounding system for an LNG terminal in Peñuelas, Puerto Rico. EcoEléctrica has been operating the LNG terminal since June 2000.

¹ EcoEléctrica submitted supplemental information to PHMSA on May 31 and October 31, 2024 and January 2 and 27, 2025.

On February 13, 2022, EcoEléctrica placed a project into service that supplies LNG from the terminal to a nearby truck loading facility owned by a third party. EcoEléctrica used PIP technology for the following piping segments in the project:

1. Approximately 3,600 feet of LNG transfer piping using PIP technology with a six-inch diameter outer pipe and a four-inch diameter inner pipe.

2. Approximately 3,600 feet of LNG recirculation piping using PIP technology with a four-inch diameter outer pipe and a 1.5-inch diameter inner pipe.

PHMSA's regulations for LNG facilities in 49 CFR part 193 do not currently authorize the use of PIP technology. PIP technology consists of two layers of pipe—an inner pipe that handles LNG and an outer pipe that serves as the impoundment system. Section 193.2167 prohibits the use of covered impoundment systems due to the potential for confined vapor explosions resulting from the flammable mixture of released methane vapors and oxygen from the atmosphere. Section 193.2173 requires that impoundment areas be constructed such that all areas drain completely to prevent water collection.

On September 8, 2023, EcoEléctrica filed a special permit asking PHMSA to waive the requirements in 49 CFR 193.2167 and 193.2173 to authorize the use of PIP technology for spill containment for the LNG transfer and recirculation piping described above. A copy of that application, along with the proposed special permit and draft environmental assessment, is available for review and public comments in Docket No. PHMSA-2023-0114.

PHMSA invites interested persons to review and submit comments in the docket on the special permit request and accompanying documents. Please submit comments on potential safety, environmental, and other relevant considerations implicated by the special permit request. Comments may include relevant data. PHMSA will review all comments received on or before the closing date in deciding whether to grant or deny the application.

Issued in Washington, DC on August 28, 2025, under authority delegated in 49 CFR 1.97.
Linda Daugherty,
Acting Associate Administrator for Pipeline Safety.

[FR Doc. 2025-16840 Filed 9-2-25; 8:45 am]

BILLING CODE 4910-60-P